DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Survey of International Air Travelers.

Agency Form Number: None.

OMB Number: 0625-0227.

Type of Request: Extension-Regular Submission.

Burden: 24,840 hours.

Number of Respondents: 99,360.

Avg. Hours Per Response: 15 minutes.

Needs and Uses: The International Trade Administration, Tourism Industries' “Survey of International Air Travelers” is the only source for estimating international travel and passenger fare exports and imports for this country. This program also supports the U.S. Department of Commerce, Bureau of Economic Analysis mandate to collect and report this type of information which is used to calculate Gross Domestic Products for the United States. In addition, this project serves as the core data source for Tourism Industries. Numerous reports and analyses are developed to assist businesses in increasing U.S. exports in international travel. An economic impact of international travel on state economies, visitation estimates, traveler profiles, presentations and reports are generated by Tourism Industries to help the federal government agencies and the travel industry better understand the international market. It is also a service that the U.S. Department of Commerce provides to travel industry businesses seeking to increase international travel and passenger fare exports for the country. It provides the only comparable estimates of nonresident visitation to the states and cities within the U.S., as well as U.S. resident travel abroad. Traveler characteristics data are also collected to help travel related businesses better understand the international travelers to and from the U.S. so they can develop targeted marketing and other planning related materials.

Affected Public: International travelers departing the United States 18 years or older which includes U.S. and non-U.S. residents.

Frequency: Monthly.

Respondent's Obligation: Voluntary survey.

OMB Desk Officer: David Rostker, (202) 395-7285.

Copies of the above information collection proposal can be obtained by calling or writing Diana Hynek, Departmental Paperwork Clearance Officer, (202) 482-0266, Department of Commerce, Room 6625, 14th and Constitution Avenue, NW., Washington, DC 20230. E-mail: dHynek@doc.gov.

Written comments and recommendations for the proposed information collection should be sent to David Rostker, at David_Rostker@omb.eop.gov or fax (202) 395-7285 within 30 days of publication of this Federal Register notice.

Dated: July 28, 2005.
Madeleine Clayton,
Management Analyst, Office of the Chief Information Officer.

[FR Doc. 05-15267 Filed 8-2-05; 8:45 am]

BILLING CODE 3510-DR-P